DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Baldwin (FEMA Docket No.: B-1211) | City of Gulf Shores (11-04-1670P) | June 10, 2011; June 17, 2011; The Islander | The Honorable Robert S. Craft, Mayor, City of Gulf Shores, 1905 West 1st Street, Gulf Shores, AL 36547 | June 6, 2011 | 015005
Shelby (FEMA Docket No.: B-1206) | City of Montevallo (10-04-6506P) | May 25, 2011; June 1, 2011; The Shelby County Reporter | The Honorable Ben McCrory, Mayor, City of Montevallo, 545 South Main Street, Montevallo, AL 35115 | September 29, 2011 | 010349
Arizona:
Coconino (FEMA Docket No.: B-1195) | City of Page (10-09-3257P) | March 4, 2011; March 11, 2011; The Arizona Daily Sun | The Honorable Lyle Dimbatt, Mayor, City of Page, 697 Vista Avenue, Page, AZ 86040 | July 11, 2011 | 040113
Coconino (FEMA Docket No.: B-1195) | Unincorporated areas of Coconino County (10-09-3257P) | March 4, 2011; March 11, 2011; The Arizona Daily Sun | The Honorable Mandy Metzger, Chair, Coconino County Board of Supervisors, 219 East Cherry Avenue, Flagstaff, AZ 86001 | July 11, 2011 | 040019
Maricopa (FEMA Docket No.: B-1206) | City of El Mirage (11-09-0216P) | May 12, 2011; May 19, 2011; The Arizona Business Gazette | The Honorable Lana Mook, Mayor, City of El Mirage, 12145 Northwest Grande Avenue, El Mirage, AZ 85335 | September 16, 2011 | 040041
Maricopa (FEMA Docket No.: B-1206) | Unincorporated areas of Maricopa County (11-09-0216P) | May 12, 2011; May 19, 2011; The Arizona Business Gazette | The Honorable Andrew Kunasek, Chairman, Maricopa County Board of Supervisors, 301 West Jefferson Street, 10th Floor, Phoenix, AZ 85003 | September 16, 2011 | 040037
Arkansas:
Washington (FEMA Docket No.: B-1203) | City of Fayetteville (10-06-1619P) | December 1, 2010; December 7, 2010; The Northwest Arkansas Times | The Honorable Lioneld Jordan, Mayor, City of Fayetteville, 113 West Mountain Street, Fayetteville, AR 72701 | April 6, 2011 | 050216
California:
Orange (FEMA Docket No.: B-1195) | City of Orange (10-09-3115P) | March 21, 2011; March 28, 2011; The Orange County Register | The Honorable Carolyn V. Cavecche, Mayor, City of Orange, 300 East Chapman Avenue, Orange, CA 92866 | April 15, 2011 | 060228
Riverside (FEMA Docket No.: B-1195) | Unincorporated areas of Riverside County (10-09-2063P) | March 18, 2011; March 25, 2011; The Press-Enterprise | The Honorable Bob Buster, Chairman, Riverside County Board of Supervisors, 4080 Lemon Street, Riverside, CA 92502 | July 25, 2011 | 060245
San Benito (FEMA Docket No.: B-1195) | City of Hollister (10-09-2357P) | March 8, 2011; March 15, 2011; The Free Lance | The Honorable Victor Gomez, Mayor, City of Hollister, 375 5th Street, Hollister, CA 95023 | July 13, 2011 | 060268
San Benito (FEMA Docket No.: B-1195) | Unincorporated areas of San Benito County (10-09-2357P) | March 8, 2011; March 15, 2011; The Free Lance | The Honorable Anthony Botelho, Chairman, San Benito County Board of Supervisors, 481 4th Street, 1st Floor, Hollister, CA 95023 | July 13, 2011 | 060267
San Diego (FEMA Docket No.: B-1206) | City of San Diego (11-09-0120P) | May 6, 2011; May 13, 2011; The San Diego Daily Transcript | The Honorable Jerry Sanders, Mayor, City of San Diego, 202 C Street, 11th Floor, San Diego, CA 92101 | September 12, 2011 | 060295
Ventura (FEMA Docket No.: B-1195) | City of Simi Valley (10-09-3242P) | March 9, 2011; March 16, 2011; The Ventura County Star | The Honorable Bob Huber, Mayor, City of Simi Valley, 2929 Tapo Canyon Road, Simi Valley, CA 93063 | July 14, 2011 | 060421
Ventura (FEMA Docket No.: B-1206) | City of Simi Valley (11-09-2030P) | May 6, 2011; May 13, 2011; The Ventura County Star | The Honorable Bob Huber, Mayor, City of Simi Valley, 2929 Tapo Canyon Road, Simi Valley, CA 93063 | September 12, 2011 | 060421
Colorado:
Arapahoe (FEMA Docket No.: B-1195) | City of Littleton (11-08-0082P) | March 18, 2011; March 25, 2011; The Denver Post | The Honorable Doug Clark, Mayor, City of Littleton, 2255 West Berry Avenue, Littleton, CO 80165 | April 14, 2011 | 080017
Arapahoe (FEMA Docket No.: B-1195) | Town of Columbine Valley (11-08-0082P) | March 18, 2011; March 25, 2011; The Denver Post | The Honorable Gale Christy, Mayor, Town of Columbine Valley, 2 Middlefield Road, Columbine Valley, CO 80123 | April 14, 2011 | 080014
Arapahoe (FEMA Docket No.: B-1195) | Unincorporated areas of Arapahoe County (11-08-0082P) | March 18, 2011; March 25, 2011; The Denver Post | The Honorable Rod Bockenfeld, Chairman, Arapahoe County Board of Commissioners, 5334 South Prince Street, Littleton, CO 80166 | April 14, 2011 | 080011
Boulder (FEMA Docket No.: B-1206) | City of Boulder (10-08-0754P) | May 3, 2011; May 10, 2011; The Camera | The Honorable Susan Osborne, Mayor, City of Boulder, City Council Office, 1777 Broadway Street, Boulder, CO 80302 | September 7, 2011 | 080024
Boulder (FEMA Docket No.: B-1206) | Unincorporated areas of Boulder County (10-08-0754P) | May 3, 2011; May 10, 2011; The Camera | The Honorable Ben Pearlman, Chairman, Boulder County Board of Commissioners, 1325 Pearl Street, 3rd Floor, Boulder, CO 80302 | September 7, 2011 | 080023
Rio Blanco (FEMA Docket No.: B-1206) | Town of Meeker (11-08-0007P) | April 28, 2011; May 5, 2011; The Rio Blanco Herald Times | The Honorable Mandi Etheridge, Mayor, Town of Meeker, 345 Market Street, Meeker, CO 81641 | September 2, 2011 | 080151
Rio Blanco (FEMA Docket No.: B-1206) | Unincorporated areas of, Rio Blanco County (11-08-0007P) | April 28, 2011; May 5, 2011; The Rio Blanco Herald Times | The Honorable Kai Turner, Chairman, Rio Blanco County Board of Commissioners, 200 Main Street, Suite 100, Meeker, CO 81641 | September 2, 2011 | 080288
Rio Blanco (FEMA Docket No.: B-1206) | Unincorporated areas of, Rio Blanco County (11-08-0049P) | May 5, 2011; May 12, 2011; The Rio Blanco Herald Times | The Honorable Kai Turner, Chairman, Rio Blanco County Board of County Commissioners, 200 Main Street, Suite 100, Meeker, CO 81641 | September 9, 2011 | 080288
Routt (FEMA Docket No.: B-1199) | City of Steamboat Springs (11-08-0283P) | May 1, 2011; May 8, 2011; The Steamboat Pilot & Today | Mr. Jon B. Roberts, City of Steamboat Springs Manager, 137 10th Street, Steamboat Springs, CO 80477 | September 6, 2011 | 080159
Summit (FEMA Docket No.: B-1191) | Town of Breckenridge (10-08-0858P) | February 25, 2011; March 4, 2011; The Summit County Journal | The Honorable John Warner, Mayor, Town of Breckenridge, 150 Ski Hill Road, Breckenridge, CO 80424 | July 5, 2011 | 080172
Summit (FEMA Docket No.: B-1191) | Unincorporated areas of Summit County (10-08-0858P) | February 25, 2011; March 4, 2011; The Summit County Journal | The Honorable Karn Stiegelmeier, Chair, Summit County Board of Commissioners, 208 East Lincoln Avenue, Breckenridge, CO 80424 | July 5, 2011 | 080290
Delaware:
New Castle (FEMA Docket No.: B-1201) | Town of Odessa (11-03-0744P) | March 31, 2011; April 7, 2011; The Middletown Transcript | The Honorable Kathy Harvey, Mayor, Town of Odessa, 315 Main Street, Odessa, DE 19730 | August 5, 2011 | 100066
New Castle (FEMA Docket No.: B-1201) | Unincorporated areas of New Castle County (10-03-1927P) | January 7, 2011; January 14, 2011; The News Journal | The Honorable Paul G. Clark, New Castle County Executive, 87 Reads Way, New Castle, DE 19720 | May 16, 2011 | 105085
Florida:
Bay (FEMA Docket No.: B-1211) | City of Panama City (11-04-5514P) | June 16, 2011; June 23, 2011; The News Herald | The Honorable Gregory Brudnicki, Mayor, City of Panama City, 9 Harrison Avenue, Panama City, FL 32401 | June 9, 2011 | 120012
Charlotte (FEMA Docket No.: B-1206) | Unincorporated areas of Charlotte County (11-04-4544P) | May 31, 2011; June 7, 2011; The Charlotte Sun | The Honorable Bob Starr, Chairman, Charlotte County Board of Commissioners, 18500 Murdock Circle, Port Charlotte, FL 33948 | May 25, 2011 | 120061
Duval (FEMA Docket No.: B-1195) | City of Jacksonville (11-04-3277P) | March 18, 2011; March 25, 2011; The Jacksonville Daily Record | The Honorable John Peyton, Mayor, City of Jacksonville, 117 West Duval Street, Suite 400, Jacksonville, FL 32202 | March 14, 2011 | 120077
Escambia (FEMA Docket No.: B-1219) | Unincorporated areas of Escambia County (11-04-2176P) | June 16, 2011; June 23, 2011; The Pensacola News Journal | The Honorable Kevin White, Chairman, Escambia County Board of Commissioners, 221 Palafox Place, Suite 420, Pensacola, FL 32502 | June 9, 2011 | 120080
Miami-Dade (FEMA Docket No.: B-1206) | City of Sweetwater (11-04-3782P) | June 1, 2011; June 8, 2011; The Miami Daily Business Review | The Honorable Manuel M. Maroño, Mayor, City of Sweetwater, 500 Southwest 109th Avenue, Sweetwater, FL 33174 | May 25, 2011 | 120660
Monroe (FEMA Docket No.: B-1206) | Unincorporated areas of Monroe County (11-04-3523P) | May 31, 2011; June 7, 2011; The Key West Citizen | The Honorable Heather Carruthers, Mayor, Monroe County, 530 Whitehead Street, Key West, FL 33040 | May 25, 2011 | 125129
Sarasota (FEMA Docket No.: B-1211) | City of Sarasota (11-04-4005P) | June 16, 2011; June 23, 2011; The Sarasota Herald-Tribune | The Honorable Suzanne Atwell, Mayor, City of Sarasota, 1565 1st Street, Room 101, Sarasota, FL 34236 | June 9, 2011 | 125150
Sarasota (FEMA Docket No.: B-1195) | Unincorporated areas of Sarasota County (11-04-1370P) | March 16, 2011; March 23, 2011; The Sarasota Herald-Tribune | The Honorable Nora Patterson, Chair, Sarasota County Board of Commissioners, 1660 Ringling Boulevard, Sarasota, FL 34236 | July 21, 2011 | 125144
Wakulla (FEMA Docket No.: B-1195) | Unincorporated areas of Wakulla County (10-04-8135P) | March 31, 2011; April 7, 2011; The Wakulla News | The Honorable Mike Stewart, Chair, Wakulla County Board of Commissioners, 3093 Crawfordville Highway, Crawfordville, FL 32327 | March 25, 2011 | 120315
Georgia:
Fulton (FEMA Docket No.: B-1195) | City of East Point (09-04-8416P) | March 7, 2011; March 14, 2011; The Daily Report | Mr. Crandall O. Jones, City of East Point Manager, 2777 East Point Street, East Point, GA 30344 | July 12, 2011 | 130087
Muscogee (FEMA Docket No.: B-1211) | City of Columbus-Muscogee County (Consolidated Government) (11-04-4624P) | June 8, 2011; June 15, 2011; The Columbus Ledger-Enquirer | The Honorable Teresa Tomlinson, Mayor, City of Columbus-Muscogee County Consolidated Government, 100 10th Street, Columbus, GA 31901 | May 31, 2011 | 135158
Troup (FEMA Docket No.: B-1195) | City of LaGrange (10-04-5810P) | March 11, 2011; March 18, 2011; The LaGrange Daily News | The Honorable Jeff Lukken, Mayor, City of LaGrange, 200 Ridley Avenue, LaGrange, GA 30240 | July 18, 2011 | 130177
Hawaii:
Honolulu (FEMA Docket No.: B-1195) | City and County of Honolulu (11-09-0171P) | March 25, 2011; April 1, 2011; The Honolulu Star-Advertiser | The Honorable Peter B. Carlisle, Mayor, City and County of Honolulu, 530 South King Street, Room 300, Honolulu, HI 96813 | March 21, 2011 | 150001
New Mexico:
Bernalillo (FEMA Docket No.: B-1203) | Unincorporated areas of Bernalillo County (10-06-1669P) | May 5, 2011; May 12, 2011; The Albuquerque Journal | The Honorable Maggie Hart Stebbins, Chair, Bernalillo County Board of Commissioners, 1 Civic Plaza Northwest, Albuquerque, NM 87102 | March 23, 2011 | 350001
Sandoval (FEMA Docket No.: B-1203) | City of Rio Rancho (10-06-2588P) | January 26, 2011; February 2, 2011; The Rio Rancho Observer | The Honorable Thomas E. Swisstack, Mayor, City of Rio Rancho, 3200 Civic Center Circle Northeast, Rio Rancho, NM 87144 | June 2, 2011 | 350146
Santa Fe (FEMA Docket No.: B-1201) | City of Santa Fe (10-06-2026P) | March 3, 2011; March 10, 2011; The Santa Fe New Mexican | The Honorable David Coss, Mayor, City of Santa Fe, 200 Lincoln Avenue, Santa Fe, NM 87504 | February 24, 2011 | 350070
North Carolina:
Columbus (FEMA Docket No.: B-1199) | Unincorporated areas of Columbus County (10-04-6815P) | April 7, 2011; April 14, 2011; The News Reporter | Mr. Giles E. Byrd, Chairman, Columbus County Board of Commissioners, 112 West Smith Street, Whiteville, NC 28472 | August 12, 2011 | 370305
Durham (FEMA Docket No.: B-1199) | City of Durham (10-04-4374P) | March 30, 2011; April 6, 2011; The Herald-Sun | The Honorable William V. Bell, Mayor, City of Durham, 101 City Hall Plaza, Durham, NC 27701 | August 4, 2011 | 370086
Oklahoma:
Cleveland (FEMA Docket No.: B-1205) | City of Moore (10-06-2515P) | December 17, 2010; December 24, 2010; The Norman Transcript | The Honorable Glenn Lewis, Mayor, City of Moore, 301 North Broadway Street, Moore, OK 73160 | April 25, 2011 | 400044
Cleveland (FEMA Docket No.: B-1205) | Unincorporated areas of Cleveland County (10-06-2515P) | December 17, 2010; December 24, 2010; The Norman Transcript | Mr. Rusty Sullivan, Cleveland County Commissioner, 201 South Jones Avenue, Norman, OK 73069 | April 25, 2011 | 400475
Kay (FEMA Docket No.: B-1201) | City of Ponca City (10-06-2643P) | March 14, 2011; March 21, 2011; The Ponca City News | The Honorable Homer Nicholson, Mayor, City of Ponca City, 516 East Grand Avenue, Ponca City, OK 74601 | July 19, 2011 | 400080
Oklahoma (FEMA Docket No.: B-1205) | City of Edmond (10-06-0168P) | February 22, 2011; March 1, 2011; The Edmond Sun | The Honorable Charles Lamb, Mayor Pro Tem, City of Edmond, 24 East 1st Street, Edmond, OK 73083 | June 29, 2011 | 400252
Oklahoma (FEMA Docket No.: B-1201) | City of Oklahoma City (10-06-1884P) | March 30, 2011; April 6, 2011; The Journal Record | The Honorable Mick Cornett, Mayor, City of Oklahoma City, 200 North Walker Avenue, 3rd Floor, Oklahoma City, OK 73102 | July 28, 2011 | 405378
Oklahoma (FEMA Docket No.: B-1203) | City of Oklahoma City (11-06-0387P) | May 3, 2011; May 10, 2011; The Journal Record | The Honorable Mick Cornett, Mayor, City of Oklahoma City, 200 North Walker Avenue, 3rd Floor, Oklahoma City, OK 73102 | September 7, 2011 | 405378
Osage and Tulsa (FEMA Docket No.: B-1201) | Town of Skiatook (10-06-0568P) | February 23, 2011; March 2, 2011; The Skiatook Journal | The Honorable Steve Kendrick, Mayor, Town of Skiatook, 110 North Broadway Street, Skiatook, OK 74070 | June 30, 2011 | 400212
Tulsa (FEMA Docket No.: B-1205) | City of Tulsa (10-06-2732P) | December 7, 2010; December 14, 2010; The Tulsa World | The Honorable Dewey F. Bartlett, Mayor, City of Tulsa, 175 East 2nd Street, Suite 690, Tulsa, OK 74103 | April 13, 2011 | 405381
Tulsa (FEMA Docket No.: B-1201) | Unincorporated areas of Tulsa County (10-06-1294P) | March 23, 2011; March 30, 2011; The Tulsa World | The Honorable Fred Perry, Chairman, Tulsa County Board of Commissioners, 500 South Denver Avenue West, Tulsa, OK 74103 | April 18, 2011 | 400462
Pennsylvania:
McKean (FEMA Docket No.: B-1201) | Borough of Port Allegany (10-03-1879P) | March 24, 2011; March 31, 2011; The Reporter Argus | The Honorable Donald G. Carley, Mayor, Borough of Port Allegany, 45 West Maple Street, Port Allegany, PA 16743 | April 18, 2011 | 420671
McKean (FEMA Docket No.: B-1201) | Township of Liberty (10-03-1879P) | March 24, 2011; March 31, 2011; The Reporter Argus | The Honorable Gary L. Turner, Chairman, Township of Liberty Board of Supervisors, 21514 U.S. Route 6, Port Allegany, PA 16743 | April 18, 2011 | 420668
South Carolina:
Richland (FEMA Docket No.: B-1211) | Unincorporated areas of Richland County (11-04-1879P) | May 6, 2011; May 13, 2011; The Columbia Star | The Honorable Paul Livingston, Chairman, Richland County Council, 2020 Hampton Street, 2nd Floor, Columbia, SC 29202 | September 12, 2011 | 450170
Texas:
Bell (FEMA Docket No.: B-1205) | City of Temple (10-06-1855P) | May 4, 2011; May 11, 2011; The Temple Daily Telegram | The Honorable William A. Jones, III, Mayor, City of Temple, 2 North Main Street, Temple, TX 76501 | September 8, 2011 | 480034
Bexar (FEMA Docket No.: B-1201) | City of San Antonio (09-06-3178P) | April 6, 2011; April 13, 2011; The Hart Beat | The Honorable Julian Castro, Mayor, City of San Antonio, 103 Main Plaza, San Antonio, TX 78283 | March 30, 2011 | 480045
Bexar (FEMA Docket No.: B-1201) | City of San Antonio (10-06-1080P) | February 11, 2011; February 18, 2011; The San Antonio Express-News | The Honorable Julian Castro, Mayor, City of San Antonio, 103 Main Plaza, San Antonio, TX 78283 | February 4, 2011 | 480045
Bexar (FEMA Docket No.: B-1201) | City of San Antonio (10-06-3684P) | April 6, 2011; April 13, 2011; The San Antonio Express-News | The Honorable Julian Castro, Mayor, City of San Antonio, 103 Main Plaza, San Antonio, TX 78283 | August 11, 2011 | 480045
Bexar (FEMA Docket No.: B-1201) | City of Selma (09-06-3178P) | April 6, 2011; April 13, 2011; The Hart Beat | The Honorable Tom Daly, Mayor, City of Selma, 9375 Corporate Drive, Selma, TX 78154 | March 30, 2011 | 480046
Brazos (FEMA Docket No.: B-1203) | City of College Station (10-06-1996P) | November 24, 2010; December 1, 2010; The Eagle | The Honorable Nancy Berry, Mayor, City of College Station, 1101 Texas Avenue, College Station, TX 77840 | March 30, 2011 | 480083
Brazos (FEMA Docket No.: B-1205) | City of College Station (10-06-2875P) | May 9, 2011; May 16, 2011; The Eagle | The Honorable Nancy Berry, Mayor, City of College Station, 1101 Texas Avenue, College Station, TX 77840 | September 13, 2011 | 480083
Brazos (FEMA Docket No.: B-1205) | City of College Station (10-06-0657P) | May 11, 2011; May 18, 2011; The Eagle | The Honorable Nancy Berry, Mayor, City of College Station, 1101 Texas Avenue, College Station, TX 77840 | September 15, 2011 | 480083
Brazos (FEMA Docket No.: B-1205) | Unincorporated areas of Brazos County (10-06-2875P) | May 9, 2011; May 16, 2011; The Eagle | The Honorable Duane Peters, Brazos County Judge, 200 South Texas Avenue, Suite 332, Bryan, TX 77803 | September 13, 2011 | 481195
Cherokee (FEMA Docket No.: B-1205) | City of Jacksonville (10-06-2294P) | December 17, 2010; December 24, 2010; The Jacksonville Daily Progress | The Honorable Kenneth Melvin, Mayor, City of Jacksonville, 2107 Baylor Street, Jacksonville, TX 75766 | November 29, 2010 | 480123
Collin (FEMA Docket No.: B-1201) | City of Frisco (11-06-1691P) | April 1, 2011; April 8, 2011; The Frisco Enterprise | The Honorable Maher Maso, Mayor, City of Frisco, 6101 Frisco Square Boulevard, Frisco, TX 75034 | March 25, 2011 | 480134
Collin (FEMA Docket No.: B-1205) | City of McKinney (10-06-3483P) | May 12, 2011; May 19, 2011; The McKinney Courier-Gazette | The Honorable Brian Loughmiller, Mayor, City of McKinney, 222 North Tennessee Street, McKinney, TX 75069 | June 6, 2011 | 480135
Comal (FEMA Docket No.: B-1203) | City of New Braunfels (10-06-0915P) | December 29, 2010; January 5, 2011; The New Braunfels Herald-Zeitung | The Honorable R. Bruce Boyer, Mayor, City of New Braunfels, 424 South Castell Avenue, New Braunfels, TX 78130 | December 21, 2010 | 485493
Dallas (FEMA Docket No.: B-1201) | City of Dallas (10-06-2771P) | March 28, 2011; April 4, 2011; The Dallas Morning News | The Honorable Dwaine Caraway, Mayor, City of Dallas, 1500 Marilla Street, Room 5EN, Dallas, TX 75201 | April 20, 2011 | 480171
Dallas (FEMA Docket No.: B-1201) | City of Garland (10-06-1854P) | March 31, 2011; April 7, 2011; The Dallas Morning News | The Honorable Ronald E. Jones, Mayor, City of Garland, 200 North 5th Street, Garland, TX 75046 | August 5, 2011 | 485471
Dallas (FEMA Docket No.: B-1205) | City of Richardson (10-06-3057P) | March 15, 2011; March 22, 2011; The Dallas Morning News | The Honorable Gary Slagel, Mayor, City of Richardson, 411 West Arapaho Road, Richardson, TX 75083 | April 6, 2011 | 480184
Dallas (FEMA Docket No.: B-1201) | City of Richardson (10-06-3245P) | April 5, 2011; April 12, 2011; The Dallas Morning News | The Honorable Gary Slagel, Mayor, City of Richardson, 411 West Arapaho Road, Richardson, TX 75083 | August 10, 2011 | 480184
Dallas (FEMA Docket No.: B-1201) | City of Rowlett (10-06-1854P) | March 31, 2011; April 7, 2011; The Dallas Morning News | The Honorable John E. Harper, Mayor, City of Rowlett, 4000 Main Street, Rowlett, TX 75088 | August 5, 2011 | 480185
Denton (FEMA Docket No.: B-1201) | City of Denton (11-06-0102P) | March 22, 2011; March 29, 2011; The Denton Record-Chronicle | The Honorable Mark Burroughs, Mayor, City of Denton, 215 East McKinney Street, Denton, TX 76201 | July 27, 2011 | 480194
Denton (FEMA Docket No.: B-1206) | City of Lewisville (10-06-3039P) | May 26, 2011; June 2, 2011; The Denton Record-Chronicle | The Honorable Dean Ueckert, Mayor, City of Lewisville, 151 West Church Street, Lewisville, TX 75029 | June 20, 2011 | 480195
Denton (FEMA Docket No.: B-1201) | Unincorporated areas of Denton County (10-06-3227P) | March 9, 2011; March 16, 2011; The Denton Record-Chronicle | The Honorable Mary Horn, Denton County Judge, 110 West Hickory Street, 2nd Floor, Denton, TX 76201 | July 14, 2011 | 480774
El Paso (FEMA Docket No.: B-1205) | City of El Paso (10-06-2130P) | February 1, 2011; February 8, 2011; The El Paso Times | The Honorable John F. Cook, Mayor, City of El Paso, 2 Civic Center Plaza, El Paso, TX 79901 | June 8, 2011 | 480214
El Paso (FEMA Docket No.: B-1205) | City of El Paso (10-06-3638P) | May 20, 2011; May 27, 2011; The El Paso Times | The Honorable John F. Cook, Mayor, City of El Paso, 2 Civic Center Plaza, El Paso, TX 79901 | May 13, 2011 | 480214
Fort Bend (FEMA Docket No.: B-1203) | Unincorporated areas of Fort Bend County (11-06-1803P) | April 13, 2011; April 20, 2011; The Fort Bend Independent | The Honorable Robert Hebert, Fort Bend County Judge, 301 Jackson Street, Richmond, TX 77469 | March 30, 2011 | 480228
Fort Bend and Waller (FEMA Docket No.: B-1201) | City of Katy (10-06-2439P) | March 3, 2011; March 10, 2011; The Katy Times and The Waller County News Citizen | The Honorable Don Elder, Jr., Mayor, City of Katy, 901 Avenue C, Katy, TX 77493 | July 8, 2011 | 480301
Guadalupe (FEMA Docket No.: B-1201) | City of Cibolo (10-06-3676P) | April 7, 2011; April 14, 2011; The Seguin Gazette | The Honorable Jennifer Hartman, Mayor, City of Cibolo, 200 South Main Street, Cibolo, TX 78108 | August 12, 2011 | 480267
Kaufman (FEMA Docket No.: B-1201) | City of Forney (10-06-1509P) | January 20, 2011; January 27, 2011; The Forney Messenger | The Honorable Darren Rozell, Mayor, City of Forney, 101 East Main Street, Forney, TX 75126 | July 4, 2011 | 480410
Montgomery (FEMA Docket No.: B-1205) | City of Montgomery (10-06-2378P) | May 13, 2011; May 20, 2011; The Conroe Courier | The Honorable Travis M. Mabry, Mayor, City of Montgomery, 101 Old Plantersville Road, Montgomery, TX 77356 | September 19, 2011 | 481483
Montgomery (FEMA Docket No.: B-1205) | Unincorporated areas of Montgomery County (10-06-2378P) | May 13, 2011; May 20, 2011; The Conroe Courier | The Honorable Alan B. Sadler, Montgomery County Judge, 501 North Thompson, Suite 401, Conroe, TX 77301 | September 19, 2011 | 480483
Travis (FEMA Docket No.: B-1201) | City of Austin (10-06-1285P) | December 30, 2010; January 6, 2011; The Austin American-Statesman | The Honorable Lee Leffingwell, Mayor, City of Austin, 301 West 2nd Street, 2nd Floor, Austin, TX 78767 | December 23, 2010 | 480624
Travis (FEMA Docket No.: B-1205) | City of Austin (10-06-1794P) | January 19, 2011; January 26, 2011; The Austin American-Statesman | The Honorable Lee Leffingwell, Mayor, City of Austin, 301 West 2nd Street, 2nd Floor, Austin, TX 78767 | May 20, 2011 | 480624
Travis (FEMA Docket No.: B-1201) | City of Austin (10-06-2352P) | April 6, 2011; April 13, 2011; The Austin American-Statesman | The Honorable Lee Leffingwell, Mayor, City of Austin, 301 West 2nd Street, 2nd Floor, Austin, TX 78767 | August 11, 2011 | 480624
Travis (FEMA Docket No.: B-1205) | Unincorporated areas of Travis County (10-06-1794P) | January 19, 2011; January 26, 2011; The Austin American-Statesman | The Honorable Samuel T. Biscoe, Travis County Judge, 314 West 11th Street, Suite 520, Austin, TX 78701 | May 20, 2011 | 481026
Waller (FEMA Docket No.: B-1201) | Unincorporated areas of Waller County (10-06-2439P) | March 3, 2011; March 10, 2011; The Katy Times and The Waller County News Citizen | The Honorable Glenn Beckendorff, Waller County Judge, 836 Austin Street, Suite 203, Hempstead, TX 77445 | July 8, 2011 | 480640
Wichita (FEMA Docket No.: B-1203) | City of Wichita Falls (10-06-2494P) | January 25, 2011; February 1, 2011; The Times Record News | The Honorable Glenn Barham, Mayor, City of Wichita Falls, 1300 7th Street, Wichita Falls, TX 76307 | June 1, 2011 | 480662
Williamson (FEMA Docket No.: B-1201) | City of Cedar Park (10-06-2438P) | November 11, 2010; November 18, 2010; The Hill Country News | The Honorable Bob Lemon, Mayor, City of Cedar Park, 600 North Bell Boulevard, Cedar Park, TX 78613 | March 18, 2011 | 481282
Williamson (FEMA Docket No.: B-1201) | City of Leander (09-06-3213P) | January 27, 2011; February 3, 2011; The Leander Ledger | The Honorable John Cowman, Mayor, City of Leander, 200 West Willis Street, Leander, TX 78646 | June 3, 2011 | 481536
Utah:
Washington (FEMA Docket No.: B-1211) | City of St. George (11-08-0214P) | May 31, 2011; June 7, 2011; The Spectrum | The Honorable Daniel D. McArthur, Mayor, City of St. George, 175 East 200 North, St. George, UT 84770 | May 24, 2011 | 490177
Washington (FEMA Docket No.: B-1211) | Unincorporated areas of Washington County (11-08-0214P) | May 31, 2011; June 7, 2011; The Spectrum | The Honorable Dennis B. Drake, Chairman, Washington County Board of Commissioners, 197 East Tabernacle Street, St. George, UT 84770 | May 24, 2011 | 490224
Virginia:
Frederick (FEMA Docket No.: B-1201) | Unincorporated areas of Frederick County (11-03-0191P) | December 28, 2010; January 4, 2011; The Winchester Star | The Honorable Richard C. Shickle, Chairman-at-Large, Frederick County Board of Supervisors, 292 Green Spring Road, Winchester, VA 22603 | May 4, 2011 | 510063
Wyoming:
Sweetwater (FEMA Docket No.: B-1195) | City of Rock Springs (10-08-0509P) | March 22, 2011; March 29, 2011; The Rocket-Miner | The Honorable Carl Demshar, Mayor, City of Rock Springs, 212 D Street, Rock Springs, WY 82901 | July 27, 2011 | 560051

(Catalog of Federal Domestic Assistance No. 97.022, “Flood Insurance.”)

Dated: December 5, 2011.
Sandra K. Knight,
Deputy Associate Administrator for Mitigation, Department of Homeland Security, Federal Emergency Management Agency.

[FR Doc. 2011-32597 Filed 12-20-11; 8:45 am]

BILLING CODE 9110-12-P